DEPARTMENT OF COMMERCE

United States Patent and Trademark Office

Submission for OMB Review; Comment Request; “Public User ID Badging”

The Department of Commerce will submit to the Office of Management and Budget (OMB) for clearance the following proposal for collection of information under the provisions of the Paperwork Reduction Act (44 U.S.C. Chapter 35).

Agency: United States Patent and Trademark Office.

Title: Public User ID Badging.

OMB Control Number: 0651-0041.

Form Number(s):

• PTO-2030

• PTO-2224

Type of Request: Regular.

Number of Respondents: 7,121.

Average Hours per Response: The USPTO estimates that it will take the public approximately five and a half minutes (0.09 hours) to complete the information in this collection, including gathering the necessary information, preparing the appropriate form, and submitting the completed request. The estimated response time for the individual items in this collection ranges from five to ten minutes (0.08 to 0.17 hours) depending on the instruments and practices used.

Burden Hours: 654.42 hours.

Cost Burden: $1,982.

Needs and Uses: The United States Patent and Trademark Office (USPTO) is required by 35 U.S.C. 41(i)(1) to maintain a Public Search Facility to provide patent and trademark collections for searching and retrieval of information. In order to manage the patent and trademark collections that are available to the public, the USPTO issues online access accounts to customers who wish to use the electronic search systems at the Public Search Facility. Customers may obtain an online access accounts by completing the application at the Public Search Facility reference desk and providing proper identification. Users may renew their accounts by validating and updating the required information and may obtain a replacement for a lost account by providing proper identification.

Under the authority provided in 41 CFR part 102-81, the USPTO issues security identification badges to members of the public who wish to use the facilities at the USPTO. Public users may apply for a security badge in person at the USPTO Office of Security by providing the necessary information and presenting a valid form of identification with photograph. The security badges include a color photograph of the user and must be worn at all times while at the USPTO facilities. The information obtained in this collection constitutes the application available at the Public Search Facility, and allows users to gain a security badge granting them access to that Facility.

Affected Public: Individuals or households.

Frequency: On occasion.

Respondent's Obligation: Required to Obtain or Retain Benefits (in the form of security identification badges).

OMB Desk Officer: Nicholas A. Fraser, email: Nicholas_A._Fraser@omb.eop.gov.

Once submitted, the request will be publicly available in electronic format through reginfo.gov. Follow the instructions to view Department of Commerce collections currently under review by OMB.

Paper copies can be obtained by:

• Email: InformationCollection@uspto.gov. Include “0651-0041 copy request” in the subject line of the message.

• Mail: Marcie Lovett, Records Management Division Director, Office of the Chief Information Officer, United States Patent and Trademark Office, P.O. Box 1450, Alexandria, VA 22313-1450.

Written comments and recommendations for the proposed information collection should be sent on or before March 25, 2015 to Nicholas A. Fraser, OMB Desk Officer, via email to Nicholas_A._Fraser@omb.eop.gov, or by fax to 202-395-5167, marked to the attention of Nicholas A. Fraser.

Dated: February 13, 2015.
Marcie Lovett,
Records Management Division Director, USPTO, Office of the Chief Information Officer.

[FR Doc. 2015-03571 Filed 2-20-15; 8:45 am]

BILLING CODE 3510-16-P